DEPARTMENT OF HEALTH AND HUMAN SERIVCES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White HIV/AIDS Treatment Modernization Act of 2006: Program Allocation and Expenditure Forms (NEW)

The Ryan White HIV/AIDS Program Allocation and Expenditure Reports will enable the Health Resources and Services Administration's HIV/AIDS Bureau to track spending requirements for each program as outlined in the 2006 legislation. Grantees funded under Parts A, B, C, and D of the Ryan White HIV/AIDS Program (codified under Title XXVI of the Public Health Service Act) would be required to report financial data to HRSA at the beginning and end of their grant cycle.

All Parts of the Ryan White HIV/AIDS Program specify HRSA's responsibilities in the administration of grant funds. Accurate allocation and expenditure records of the grantees receiving Ryan White HIV/AIDS Program funding are critical to the implementation of the legislation and thus are necessary for HRSA to fulfill its responsibilities.

The new law changes how Ryan White HIV/AIDS Program funds can be used, with an emphasis on providing life-saving and life-extending services for people living with HIV/AIDS across this country. More money will be spent on direct health care for Ryan White HIV/AIDS Program clients. Under the new law, unless they receive a waiver, grantees receiving funds under Parts A, B, and C must spend at least 75 percent of funds on “core medical services” and can spend no more than 5 percent or 3 million dollars (whichever is smaller) on clinical quality management. Under Parts A-D, there is also a 10 percent spending cap on grantee administration.

The forms would require grantees to report on how funds are allocated and spent on core and non-core services, and on various program components, such as administration, planning and evaluation, and quality management. The two forms are identical in the types of information they collect. However, the first report would track the allocation of their award at the beginning of their grant cycle and the second report would track actual expenditures (including carryover dollars) at the end of their grant cycle.

The primary purposes of these forms are to (1) provide information on the number of grant dollars spent on various services and program components, and (2) oversee compliance with the intent of congressional appropriations in a timely manner. In addition to meeting the goal of accountability to the Congress, clients, advocacy groups, and the general public, information collected on these reports is critical for HRSA, State and local grantees, and individual providers to evaluate the effectiveness of these programs.

The response burden for grantees is estimated as:

Program under which grantee is funded | Number of grantee respondents | Responses per grantee | Total Responses | Hours to complete each form | Total hours
Part A | 56 | 2 | 112 | 8 | 896
Part B | 59 | 2 | 118 | 12 | 1416
Part A MAI | 56 | 2 | 112 | 4 | 448
Part B MAI | 59 | 2 | 118 | 4 | 472
Part C | 361 | 2 | 722 | 7 | 5054
Part D | 90 | 2 | 180 | 7 | 1260
Total | 681 |  | 1,362 |  | 9,546

Send comments to Susan G. Queen, Ph.D., HRSA Reports Clearance Officer, Room 10-33, Parklawn Building, 5600 Fishers Lane, Rockville, MD 20857. Written comments should be received within 60 days of this notice.

Dated: October 1, 2007.
Alexandra Huttinger,
Acting Director, Division of Policy Review and Coordination.

[FR Doc. E7-19721 Filed 10-4-07; 8:45 am]

BILLING CODE 4165-15-P